DEPARTMENT OF JUSTICE

Notice of Lodging of Proposed Consent Decree Under the Clean Air Act

On May 14, 2020, the Department of Justice lodged a proposed consent decree with the United States District Court for the Eastern District of Michigan in the lawsuit entitled United States and Sierra Club v. DTE Energy Company and Detroit Edison Company, Civil Action No. 10-cv-13101.

In 2010, the United States filed this lawsuit under the Clean Air Act, later joined by Plaintiff-Intervenor Sierra Club. As amended over the course of the litigation, the United States' complaint sought injunctive relief and civil penalties for violations of the New Source Review provisions of the Clean Air Act at three of Defendants' coal-fired power plants. The proposed consent decree resolves the United States' claims and requires Defendants' to reduce emissions from its five coal-fired power plants in eastern Michigan. The proposed consent decree also requires Defendants to pay a civil penalty of $1.8 million and perform an environmental mitigation project that replaces municipal buses with lower-emitting buses.

The publication of this notice opens a period for public comment on the consent decree. Comments should be addressed to the Assistant Attorney General, Environment and Natural Resources Division, and should refer to United States and Sierra Club v. DTE Energy Company and Detroit Edison Company, D.J. Ref. No. 90-5-2-1-09949. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $18.75 (25 cents per page reproduction cost) payable to the United States Treasury.

Patricia McKenna,
Assistant Section Chief, Environmental Enforcement Section, Environment and Natural Resources Division.

[FR Doc. 2020-10760 Filed 5-18-20; 8:45 am]

BILLING CODE 4410-15-P